DEPARTMENT OF COMMERCE

National Oceanic and Atmospheric Administration

RIN 0648-XE991

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) Devil's Hole Research Planning Group will meet to coordinate research in the proposed Devil's Hole Spawning Special Management Zone.

DATES: The meeting will be held on Wednesday, November 2, 2016, from 8:30 a.m. until 12 p.m.

ADDRESSES: The meeting will be held at the Crowne Plaza Hotel, 4831 Tanger Outlet Blvd., North Charleston, SC 29418.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone 843/571-4366 or toll free (866) SAFMC-10; fax: (843) 769-4520; email: kim.iverson@safmc.net.

SUPPLEMENTARY INFORMATION: The Council selected preferred locations for designation as Spawning Special Management Zones (SMZs) in Amendment 36 to the Snapper Grouper Fishery Management Plan in 2016. Amendment 36, which is under Secretarial review, includes an action to prohibit harvest or possession of species managed under the Council's snapper grouper fishery management unit in the designated Spawning SMZs because of the area's potential to be spawning areas for multiple species. The Council is holding a meeting to coordinate research for the proposed Devil's Hole Spawning SMZ, one of the proposed Spawning SMZs off the coast of South Carolina. The Devil's Hole Research Planning Group is meeting to discuss past research in the proposed Spawning SMZ and discuss and coordinate future sampling events in the area. The group is comprised of research scientists, state and federal agency representatives, commercial fishermen, recreational fishermen, and non-governmental organization representatives.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: October 21, 2016.
Jeffrey N. Lonergan,
Acting Deputy Director, Office of Sustainable Fisheries, National Marine Fisheries Service.

[FR Doc. 2016-25910 Filed 10-25-16; 8:45 am]

BILLING CODE 3510-22-P